DEPARTMENT OF HOMELAND SECURITY

U.S. Customs and Border Protection

[OMB Control Number 1651-0109]

Agency Information Collection Activities; Revision; Guam-CNMI Visa Waiver Information (Form I-736)

AGENCY: U.S. Customs and Border Protection (CBP), Department of Homeland Security.

ACTION: 30-Day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than January 9, 2026) to be assured of consideration.

ADDRESSES: Written comments and/or suggestions regarding the item(s) contained in this notice should be sent within 30 days of publication of this notice to www.reginfo.gov/public/do/PRAMain. Please submit written comments and/or suggestions in English. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, Telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published in the Federal Register (89 FR 3299) on January 18, 2024, allowing for a 60-day comment period. This notice allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Guam-CNMI Visa Waiver Information (Form I-736).

OMB Number: 1651-0109.

Form Number: I-736.

Current Actions: Revision.

Type of Review: Revision.

Affected Public: Individuals.

Abstract: Public Law 110-229 provides for certain aliens to be exempt from the nonimmigrant visa requirement if seeking entry into Guam or the Commonwealth of the Northern Mariana Islands (CNMI) as a visitor for a maximum stay of 45 days, provided that no potential threat exists to the welfare, safety, or security of the United States, or its territories, and other criteria are met. At the Secretary's discretion, passport holders of the People's Republic of China who are not in possession of a visitors' visa may be allowed to enter CNMI for up to 14 days under the discretionary parole authority. Upon arrival at the Guam or CNMI Ports-of-Entry, each applicant for admission presents a completed paper Form I-736 to CBP, which collects information about the applicant's identity and travel documents. CBP Form I-736 is provided for by 8 CFR 212.1(q).

Please note that certain items on the new version remains identical to those in the original version. However, updates are necessary to be able to transition to automating Form I-736, Guam-CNMI Visa Waiver Information that is used in compliance with the Guam-CNMI Visa Waiver Program. The automation will facilitate CBP to gather information on travelers from Guam-CNMI Visa Waiver Program countries to determine their admissibility to enter Guam or the CNMI. In addition, CBP intends to migrate from paper I-736 to a mandatory automated environment; therefore, the collection of a paper form will no longer be acceptable. However, after the regulation implementing mandatory automation is published, CBP will grant a transition period of three months to facilitate travelers adjusting to the new collection method. At the end of the transition period, the paper I-736 form will become obsolete and travelers must input and submit in advance their personal information and respond to the eligibility questions using the new electronic format. The travelers' information is pre-screened or vetted against law enforcement databases. Based on the results of the pre-screening, the application is approve or denied. The system generates a board or no board status message to the carrier indicating a denied or approved authorization to board before the flight. The applicant also receives a message with the application status: approved, denied, canceled or pending. All information will be saved in the newly created Guam-CNMI Visa Waiver Program database.

In a recent approval, several data elements were added to the Form I-736: the foreign passport type (mandatory), social media identifier (optional), valid email address (mandatory), and social media provider/platform (optional). Adding these data elements enhances the existing vetting process and provides CBP with additional information to determine travelers' admissibility to enter Guam or the CNMI under the Guam-CNMI Visa Waiver Program. CBP intends to migrate from the paper Form I-736 process to a mandatory automated process via rulemaking.

Proposed Changes

As part of the regulatory updates for the Interim Final Rule (IFR) which fully automates the collection of Form I-736 and requires that travelers under the G-CNMI VWP submit this information in advance of arrival. The rule also creates a new system, CNMI EVS-TAP, wherein travelers from the PRC to the CNMI can submit advance information to CBP so they may be vetted for a 14-day visa free admissibility period. These travelers will also need to complete an additional set of vetting questions.

Type of Information Collection: Form I-736.

Estimated Number of Respondents: 1,370,000.

Estimated Number of Annual Responses per Respondent: 1.

Estimated Number of Total Annual Responses: 1,370,000.

Estimated Time per Response: 21 minutes.

Estimated Total Annual Burden Hours: 479,500.

Type of Information Collection: CNMI EVS-TAP.

Estimated Number of Respondents: 230,000.

Estimated Number of Annual Responses per Respondent: 1.

Estimated Number of Total Annual Responses: 230,000.

Estimated Time per Response: 26 minutes.

Estimated Total Annual Burden Hours: 99,667.

Seth D. Renkema,
Branch Chief, Economic Impact Analysis Branch, U.S. Customs and Border Protection.

[FR Doc. 2025-22463 Filed 12-9-25; 8:45 am]

BILLING CODE 9111-14-P